ENVIRONMENTAL PROTECTION AGENCY

[EPA-HQ-OPP-2009-0308; FRL-10012-80]

Tetrachlorvinphos; Notice of Receipt of Requests to Voluntarily Cancel Certain Pesticide Registrations and Amend Registrations To Terminate Certain Uses

AGENCY: Environmental Protection Agency (EPA).

ACTION: Notice.

SUMMARY: In accordance with the Federal Insecticide, Fungicide, and Rodenticide Act (FIFRA), EPA is issuing a notice of receipt of requests by the registrants to voluntarily cancel their registrations of certain products containing the pesticide tetrachlorvinphos (TCVP), or to amend their TCVP product registrations to terminate or delete one or more uses. The requests would terminate TCVP use of Chem-Tech, Ltd. (Chem-Tech) dust formulations on cats and dogs, voluntarily cancel TCVP dust formulations produced by The Hartz Mountain Corporation (Hartz) for domestic animals (cats and dogs) and cancel one of Hartz's pet collars for cats. The requests would not terminate the last TCVP products registered for use in the United States, or the last TCVP pesticide products registered in the United States for these uses. EPA intends to grant these requests at the close of the comment period for this announcement unless the Agency receives substantive comments within the comment period that would merit its further review of the requests. If these requests are granted, any sale, distribution, or use of products listed in this notice will be permitted after the registrations have been canceled or uses terminated only if such sale, distribution, or use is consistent with the terms as described in the final order.

DATES: Comments must be received on or before September 8, 2020.

ADDRESSES: Submit your comments, identified by docket identification (ID) number EPA-HQ-OPP-2009-0308, by one of the following methods:

• Federal eRulemaking Portal: http://www.regulations.gov. Follow the online instructions for submitting comments. Do not submit electronically any information you consider to be Confidential Business Information (CBI) or other information whose disclosure is restricted by statute.

• Mail: OPP Docket, Environmental Protection Agency Docket Center (EPA/DC), (28221T), 1200 Pennsylvania Ave. NW, Washington, DC 20460-0001.

• Hand Delivery: To make special arrangements for hand delivery or delivery of boxed information, please follow the instructions at http://www.epa.gov/dockets/contacts.html.

Due to the public health concerns related to COVID-19, the EPA Docket Center (EPA/DC) and Reading Room is closed to visitors with limited exceptions. The staff continues to provide remote customer service via email, phone, and webform. For the latest status information on EPA/DC services and docket access, visit https://www.epa.gov/dockets.

FOR FURTHER INFORMATION CONTACT: Patricia Biggio, Pesticide Re-Evaluation Division (7508P), Office of Pesticide Programs, Environmental Protection Agency, 1200 Pennsylvania Ave. NW, Washington, DC 20460-0001; telephone number: (703) 347-0547; email address: biggio.patricia@epa.gov.

SUPPLEMENTARY INFORMATION:

I. Executive Summary

There are two registrants for TCVP products registered for use on cats and dogs, Hartz and Chem-Tech. The registrants have submitted requests for voluntary cancelations or use terminations.

II. General Information

A. Does this action apply to me?

This action is directed to the public in general and may be of interest to a wide range of stakeholders including environmental and human health advocates; the chemical industry; pesticide users; and members of the public interested in the sale, distribution, or use of pesticides. Since others also may be interested, the Agency has not attempted to describe all the specific entities that may be affected by this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

III. Background on the Receipt of Requests To Cancel and/or Amend Registrations To Delete Uses

This notice announces receipt by EPA of requests from registrants Hartz and Chem-Tech to cancel certain products or terminate certain uses of TCVP product registrations. TCVP is an organophosphate insecticide used to control fleas, ticks, various flies, lice, and insect larvae on livestock and domestic animals and their premises. In letters dated June 19, 2020 and July 10, 2020, Chem-Tech and Hartz, respectively, requested EPA to either cancel or amend registrations for certain pet use products containing TCVP. These pet products and their impending actions are identified in Tables 1 and 2 of Unit IV. These actions on the registrants' requests will not terminate the last TCVP products registered in the United States, or the last TCVP pesticide products registered in the United States for these uses.

IV. What action is the Agency taking?

This notice announces receipt by EPA of requests from registrants to cancel certain registrations or terminate certain uses of TCVP product registrations. The affected products and the registrants making the requests are identified in Tables 1 and 2 of this unit.

Unless the Agency determines that there are substantive comments that warrant further review of this request, EPA intends to issue an order canceling or terminating uses from the affected registrations.

Table 1—TCVP Product Registrations With Pending Requests for Termination of Use
Registration No. | Product name | Company | Uses to be deleted
47000-123 | Clean Crop Livestock 1% Rabon Dust | Chem-Tech, Ltd | Dogs, Cats.

Table 2—TCVP Product Registrations with Pending Requests for Cancellation
Registration No. | Product name | Company
2596-63 | Hartz 2 in 1 Plus Long Lasting Collar for Cats | The Hartz Mountain Corporation.
2596-78 | Hartz 2 in 1 Flea and Tick Powder for Cats | The Hartz Mountain Corporation.
2596-79 | Hartz 2 in 1 Flea and Tick Powder for Dogs | The Hartz Mountain Corporation.

Table 3 of this unit includes the names and addresses of record for the registrants of the products listed in Table 1 and Table 2 of this unit, in sequence by EPA company number. This number corresponds to the first part of the EPA registration numbers of the products listed in Table 1 and Table 2 of this unit.

Table 3—Registrants Requesting Voluntary Cancellation and/or Termination of Use
EPA company No. | Company name and address
2596 | The Hartz Mountain Corporation, 400 Plaza Drive, Seacaucus, NJ 07094.
47000 | Chem-Tech, Ltd., 620 Lesher Place, Lansing, MI 48912.

V. What is the Agency's authority for taking this action?

Section 6(f)(1) of FIFRA (7 U.S.C. 136d(f)(1)) provides that a registrant of a pesticide product may at any time request that any of its pesticide registrations be canceled or amended to terminate one or more uses. FIFRA further provides that, before acting on the request, EPA must publish a notice of receipt of any such request in the Federal Register.

Section 6(f)(1)(B) of FIFRA (7 U.S.C. 136d(f)(1)(B)) requires that before acting on a request for voluntary cancellation, EPA must provide a 30-day public comment period on the request for voluntary cancellation or use termination. In addition, FIFRA section 6(f)(1)(C) (7 U.S.C. 136d(f)(1)(C)) provides for the possibility of a 180-day comment period where a voluntary cancellation involves a pesticide registered for at least one minor agricultural use.

Because the TCVP pet uses here do not involve any minor agricultural uses, the 180-day comment provision does not apply, and EPA is providing a 30-day comment period on the requests.

VI. Provisions for Disposition of Existing Stocks

Existing stocks are those stocks of registered pesticide products that are currently in the United States and that were packaged, labeled, and released for shipment prior to the effective date of the action. If the requests for voluntary cancellation and termination of uses are granted, the Agency intends to publish the cancellation order in the Federal Register.

In any order issued in response to these requests for cancellation of product registrations and for termination of uses, EPA anticipates it will include the following provisions for the treatment of any existing stocks of the products listed in Tables 1 and 2 of Unit IV:

Hartz may not “release for shipment,” as that term is defined by 40 CFR 152.3, any product under EPA Reg. Nos. 2596-78 and 2596-79 (dust products) after July 31, 2020, or as soon as EPA issues an order on the request following the public comment period announced in this Notice, and may not sell or distribute existing stocks of its dust products after March 31, 2021, except for export consistent with FIFRA section 17 (7 U.S.C. 136o) or for proper disposal. Hartz may sell or distribute existing stocks of EPA Reg. No. 2596-63 (cat collar) until exhausted.

Once EPA has approved product labels reflecting the requested termination of uses pertaining to EPA Reg. No. 47000-123, registrants will be permitted to sell or distribute products under the previously approved labeling, if appropriate, according to the terms of the label approval. Thereafter, registrants will be prohibited from selling or distributing the products whose labels include the deleted uses identified in Table 1 of Unit IV., except for export consistent with FIFRA section 17 or for proper disposal.

Persons other than the registrants may sell, distribute, or use existing stocks of canceled products until supplies are exhausted, provided that such sale, distribution, or use is consistent with the terms of the previously approved labeling on, or that accompanied, the canceled products.

Authority: 7 U.S.C. 136 et seq.

Dated: July 28, 2020.
Mary Reaves,
Acting Director, Pesticide Re-Evaluation Division, Office of Pesticide Programs.

[FR Doc. 2020-17114 Filed 8-5-20; 8:45 am]

BILLING CODE 6560-50-P